DEPARTMENT OF THE INTERIOR

Fish and Wildlife Service

50 CFR Part 17

Endangered and Threatened Wildlife and Plants; 12-Month Finding on a Petition To List the Wolverine as Threatened or Endangered

AGENCY: Fish and Wildlife Service, Interior.

ACTION: Notice; initiation of status review and request for new information.

SUMMARY: We, the U.S. Fish and Wildlife Service (Service), announce the opening of a public comment period regarding the status of the wolverine (Gulo gulo luscus) in the contiguous United States. We are initiating this status review pursuant to a court order requiring us to prepare a 12-month finding on a petition to list the wolverine in the contiguous United States as threatened or endangered under the Endangered Species Act of 1973, as amended (Act). Through this action, we encourage all interested parties to provide us information regarding the status of, and any potential threats to, the wolverine in the contiguous United States.

DATES: To be fully considered in the 12-month finding, comments must be received on or before August 6, 2007. However, new information on the wolverine will be accepted after the official comment period closes.

ADDRESSES: If you wish to provide new information, you may submit your comments and materials by any of the following methods:

(1) You may mail or hand-deliver written comments and information to Wolverine Status Review, U.S. Fish and Wildlife Service, Montana Field Office, 585 Shepard Way, Helena, MT 59601.

(2) You may e-mail your information to FW6_wolverine@fws.gov. For directions on how to submit comments by email, see the “Public Comments Solicited” section of this notice.

FOR FURTHER INFORMATION CONTACT: Mark Wilson, Field Supervisor, Montana Field Office, U.S. Fish and Wildlife Service (see ADDRESSES), or phone 406-449-5225. Additional information is available at http://www.r6.fws.gov/species/mammals/wolverine/.

SUPPLEMENTARY INFORMATION:

Background

On July 14, 2000, we received a petition from the Biodiversity Legal Foundation and other petitioners to list the wolverine within the contiguous United States as a threatened or endangered species and to designate critical habitat for the species. We published a 90-day petition finding in the Federal Register on October 21, 2003 (68 FR 60112). The 90-day finding determined that the petition failed to present substantial scientific and commercial information indicating that listing the wolverine may be warranted.

Defenders of Wildlife and other plaintiffs filed a complaint on June 8, 2005, alleging that we used the wrong standards to assess the wolverine petition. On September 29, 2006, the U.S. District Court, District of Montana, ruled that our 90-day petition finding was in error and ordered us to make a 12-month finding on the status of the wolverine. On April 18, 2007, the U.S. District Court granted our April 5, 2007 (unopposed), motion for a modification to extend the deadline for the status review and 12-month finding for the wolverine by five months, to February 28, 2008.

Section 4(b)(3)(B) of the Act (16 U.S.C. 1531 et seq.) requires that, for any petition to revise the Lists of Endangered and Threatened Wildlife and Plants (Lists) that contains substantial scientific or commercial information that the petitioned action may be warranted, we make a finding within 12 months of the date of the receipt of the petition on whether the petitioned action is (a) Not warranted, (b) warranted, or (c) warranted, but that the immediate proposal of a regulation implementing the petitioned action is precluded by other pending proposals to determine whether other species are threatened or endangered, and we are making expeditious progress to add or remove qualified species from the Lists. This current status review process, which will culminate in the 12-month finding on the wolverine, is initiated by court order rather than initiated by a substantial 90-day finding

At this time, we are soliciting new information on the status of and potential threats to the wolverine. We will base our 12-month finding on a review of the best scientific and commercial information available, including all such information received as a result of this notice. We are aware that several peer-reviewed research manuscripts on the wolverine are currently in preparation for publication in The Journal of Wildlife Management. If they are completed in time, we will consider these papers, in addition to any other works constituting the best scientific and commercial information available, in making our 12-month finding.

Public Comments Solicited

Please submit email comments in an ASCII or Microsoft Word file and avoid the use of any special characters or any form of encryption. Also, please include “Attn: wolverine status review” in the subject line of your e-mail message. If you do not receive a confirmation from the system that we have received your e-mail message, please submit your comments in writing using one of the alternate methods described in the ADDRESSES section.

Before including your address, phone number, e-mail address, or other personal identifying information in your comment, you should be aware that your entire comment—including your personal identifying information—may be made publicly available at any time. While you can ask us in your comment to withhold your personal identifying information from public review, we cannot guarantee that we will be able to do so.

Author

The primary author of this document is staff of the Montana Field Office, U.S. Fish and Wildlife Service, Helena, MT.

Authority

The authority for this action is the Endangered Species Act of 1973, as amended (16 U.S.C. 1531 et seq.).

Dated: May 24, 2007.
Randall B. Luthi,
Acting Director, Fish and Wildlife Service.

[FR Doc. E7-10570 Filed 6-4-07; 8:45 am]

BILLING CODE 4310-55-P